DEPARTMENT OF COMMERCE

International Trade Administration

[Application No. 84-35A12]

Export Trade Certificate of Review

ACTION: Notice of issuance of an amended Export Trade Certificate of Review for Northwest Fruit Exporters (NFE), Application No. 84-35A12.

SUMMARY: The Secretary of Commerce, through the Office of Trade and Economic Analysis (OTEA), issued an amended Export Trade Certificate of Review to NFE on January 8, 2025.

FOR FURTHER INFORMATION CONTACT: Amanda Reynolds, Acting Director, OTEA, International Trade Administration, (202) 482-5131 (this is not a toll-free number) or email at etca@trade.gov.

SUPPLEMENTARY INFORMATION: Title III of the Export Trading Company Act of 1982 (15 U.S.C. 4011-21) (the Act) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing title III are found at 15 CFR part 325. OTEA is issuing this notice pursuant to 15 CFR 325.6(b), which requires the Secretary of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Certified Conduct

NFE amended its Certificate as follows:

1. Remove the following companies as Members of the Certificate:

a. Blue Star Growers, Inc., Cashmere, WA

b. Columbia Valley Fruit, L.L.C., Yakima, WA

c. Honey Bear Tree Fruit Co., LLC., Yakima, WA

d. Oneonta Trading Corp., Wenatchee, WA

e. Smith & Nelson, Inc., Tonasket, WA

2. Change the names of the following Members of the Certificate:

a. HoneyBear Growers, LLC (Brewster, WA) changes to Honeybear Growers, LLC (Brewster, WA)

3. Change the Export Product coverage of the following Members of the Certificate:

a. Legacy Fruit Packers LLC changes Export Product coverage from fresh apples and fresh pears to fresh apples (dropping fresh pears).

b. Piepel Premium Fruit Packing LLC changes Export Product coverage from fresh apples and fresh sweet cherries to fresh apples (dropping fresh sweet cherries).

c. Honeybear Growers, LLC changes Export Product coverage from fresh apples to fresh apples and fresh sweet cherries (adding fresh sweet cherries).

List of Members, as Amended

1. Allan Bros., Naches, WA

2. AltaFresh L.L.C. dba Chelan Fresh Marketing, Chelan, WA

3. Apple House Warehouse & Storage, Inc., Brewster, WA

4. Apple King, L.L.C., Yakima, WA

5. Auvil Fruit Co., Inc. dba Gee Whiz II, LLC, Orondo, WA

6. Baker Produce, Inc., Kennewick, WA

7. Blue Bird, Inc., Peshastin, WA

8. Borton & Sons, Inc., Yakima, WA

9. Brewster Heights Packing & Orchards, LP dba Gebbers Farms, Brewster, WA

10. Chelan Fruit, Chelan, WA

11. Chiawana, Inc. dba Columbia Reach Pack, Yakima, WA

12. Chuy's Cherries LLC, Mattawa, WA

13. CMI Orchards LLC, Wenatchee, WA

14. Columbia Fresh Packing LLC, Kennewick, WA

15. Congdon Packing Co. L.L.C., Yakima, WA

16. Cowiche Growers, Inc., Cowiche, WA

17. CPC International Apple Company, Tieton, WA

18. Crane Ranch, Brewster, WA

19. Custom Apple Packers, Inc., Quincy and Wenatchee, WA

20. Diamond Fruit Growers Inc., Odell, OR

21. Domex Superfresh Growers LLC, Yakima, WA

22. Douglas Fruit Company, Inc., Pasco, WA

23. Dovex Export Company, Wenatchee, WA

24. Duckwall Fruit, Odell, OR

25. E. Brown & Sons, Inc., Milton-Freewater, OR

26. E.W. Brandt & Sons, Inc., Parker, WA

27. Evans Fruit Co., Inc., Yakima, WA

28. FirstFruits Farms, LLC, Prescott, WA

29. G&G Orchards, Inc., Yakima, WA

30. Gilbert Orchards, Inc., Yakima, WA

31. Hansen Fruit & Cold Storage Co., Inc., Yakima, WA

32. Henggeler Packing Co., Inc., Fruitland, ID

33. Honeybear Growers, LLC, Brewster, WA (for fresh apples and fresh sweet cherries)

34. Hood River Cherry Company, Hood River, OR

35. JackAss Mt. Ranch, Pasco, WA

36. Jenks Bros Cold Storage & Packing, Royal City, WA

37. Kershaw Fruit & Cold Storage, Co., Yakima, WA

38. L & M Companies, Union Gap, WA

39. Lateral Roots Farm, LLC, Wapato, WA

40. Legacy Fruit Packers LLC, Wapato, WA (for fresh apples only)

41. Manson Growers, Manson, WA

42. Matson Fruit Company, Selah, WA

43. McDougall & Sons, Inc., Wenatchee, WA

44. Monson Fruit Co., LLC, Selah, WA

45. Morgan's of Washington dba Double Diamond Fruit, Quincy, WA

46. New Columbia Fruit Packers, LLC, Wenatchee, WA

47. Northern Fruit Company, Inc., Wenatchee, WA

48. Olympic Fruit Co., Moxee, WA

49. Orchard View Farms, Inc., The Dalles, OR

50. Pacific Coast Cherry Packers, LLC, Yakima, WA

51. Piepel Premium Fruit Packing LLC, East Wenatchee, WA (for fresh apples only)

52. Pine Canyon Growers LLC, Orondo, WA

53. Polehn Farms, Inc., The Dalles, OR

54. Price Cold Storage & Packing Co., Inc., Yakima, WA

55. Quincy Fresh Fruit Co., Quincy, WA

56. Rainier Fruit Company, Selah, WA

57. River Valley Fruit, LLC., Grandview, WA

58. Roche Fruit, LLC, Yakima, WA

59. Sage Fruit Company, L.L.C., Yakima, WA

60. Stemilt Growers, LLC, Wenatchee, WA

61. Symms Fruit Ranch, Inc., Caldwell, ID

62. The Dalles Fruit Company, LLC, Dallesport, WA

63. Underwood Fruit & Warehouse Co., Bingen, WA

64. Valicoff Fruit Company, Inc, Wapato, WA

65. Washington Cherry Growers, Peshastin, WA

66. Washington Fruit & Produce Co., Yakima, WA

67. Western Sweet Cherry Group, LLC, Yakima, WA

68. Whitby Farms, Inc. dba: Farm Boy Fruit Snacks LLC, Mesa, WA

69. WP Packing LLC, Wapato, WA

70. Yakima Fruit & Cold Storage Co., Yakima, WA

71. Zirkle Fruit Company, Selah, WA

The effective date of the amended certificate is August 19, 2024, the date on which NFE's application to amend was deemed submitted.

Dated: January 23, 2025.
Amanda Reynolds,
Acting Director, Office of Trade and Economic Analysis, International Trade Administration, U.S. Department of Commerce.

[FR Doc. 2025-01835 Filed 1-27-25; 8:45 am]

BILLING CODE 3510-DR-P